DEPARTMENT OF LABOR

Employment and Training Administration

[TA-W-58,583]

Air Products and Chemicals, Inc. Including On-Site Leased Workers of Shaw Maintenance, Inc. Pace, FL; Notice of Affirmative Determination Regarding Application for Reconsideration

By application of March 10, 2006, the subject company requested administrative reconsideration of the Department of Labor's Notice of Negative Determination Regarding Eligibility to Apply for Worker Adjustment Assistance, applicable to workers of the subject firm. The Department's Notice of determination was issued on February 15, 2006, and published in the Federal Register on March 10, 2006 (71 FR 12396).

The initial determination identifies ammonia nitrate and nitric acid as the articles produced at the subject facility. The request for reconsideration states that the import-impacted article is ammonia nitrate (prills and solution).

The request for reconsideration alleges that the subject company's customers may have indirectly purchased foreign-produced ammonia nitrate from brokers and provides additional information regarding foreign produced ammonia nitrate.

The Department has carefully reviewed the request for reconsideration and has determined that the Department will conduct further investigation based on new information provided by the company official.

Conclusion

After careful review of the application, I conclude that the claim is of sufficient weight to justify reconsideration of the Department of Labor's prior decision. The application is, therefore, granted.

Signed at Washington, DC, this 20th day of April 2006.
Elliott S. Kushner,
Certifying Officer, Division of Trade Adjustment Assistance.

[FR Doc. E6-6820 Filed 5-4-06; 8:45 am]

BILLING CODE 4510-30-P